NATIONAL AERONAUTICS AND SPACE ADMINISTRATION

[Notice: (20-045)]

NASA Advisory Council; Regulatory and Policy Committee; Meeting

AGENCY: National Aeronautics and Space Administration.

ACTION: Notice of meeting.

SUMMARY: In accordance with the Federal Advisory Committee Act, as amended, the National Aeronautics and Space Administration (NASA) announces a meeting of the Regulatory and Policy Committee of the NASA Advisory Council (NAC). This Committee reports to the NAC.

DATES: Friday, May 15, 2020, from 10:30 a.m.-2:30 p.m., Eastern Time.

ADDRESSES: Virtual meeting by dial-in teleconference and WebEx only.

FOR FURTHER INFORMATION CONTACT: Mr. Andrew Rowe, Designated Federal Officer, Office of Legislative and Intergovernmental Affairs, NASA Headquarters, Washington, DC 20546, (202) 358-4269 or andrew.rowe@nasa.gov.

SUPPLEMENTARY INFORMATION: This meeting will be held virtually and will be available telephonically and by WebEx only. Any interested person may dial the toll number 1-415-527-5035 and then the numeric passcode 903548068, followed by the # sign, or toll-free 1-844-467-6272 and then the numeric passcode 713620, followed by the # sign. NOTE: If dialing in, please “mute” your phone. To join via WebEx, the link is https://nasaenterprise.webex.com/. The meeting number is: 900 459 481 and the meeting password is RPC-May-15 (case sensitive).

The agenda for the meeting will include the following topics:

—Regulatory Issues for Commercial and Governmental Payloads on LEO Private Sector Modules and Free Flying Habitats

—Discussion of Spectrum Issues

Patricia Rausch,
Advisory Committee Management Officer, National Aeronautics and Space Administration.

[FR Doc. 2020-08908 Filed 4-27-20; 8:45 am]

BILLING CODE 7510-13-P